ENVIRONMENTAL PROTECTION AGENCY

40 CFR Part 300

[EPA-HQ-OLEM-2024-0376; 12162-03-OLEM]

National Priorities List; Addition of Exide Technologies-Vernon Site; Notification of Data Availability and Request for Comment

AGENCY: Environmental Protection Agency.

ACTION: Notification of data availability.

SUMMARY: The Environmental Protection Agency (EPA) is announcing the availability of and soliciting public comment on additional data related to the proposed addition of the Exide Technologies-Vernon site in Vernon, California to the National Priorities List (NPL). The EPA proposed to list the site on the NPL on September 5, 2024. These additional data pertain to the lines of evidence of aquifer interconnection and contaminant attribution and may be used by the EPA in a future determination on whether to list the site on the NPL.

DATES: Comments must be submitted (postmarked) on or before July 3, 2025.

ADDRESSES: You may send comments, identified by Docket ID No. EPA-HQ-OLEM-2024-0376, by any of the following methods:

• Federal eRulemaking Portal: https://www.regulations.gov/ (our preferred method). Follow the online instructions for submitting comments.

• Agency Website: https://www.epa.gov/superfund/current-npl-updates-new-proposed-npl-sites-and-new-npl-sites; scroll down to the site for which you would like to submit comments and click the “Comment Now” link.

• Mail: U.S. Environmental Protection Agency, EPA Docket Center, Superfund Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal holidays).

Instructions: All submissions received must include the appropriate Docket ID No. EPA-HQ-OLEM-2024-0376. Comments received may be posted without change to https://www.regulations.gov/, including any personal information provided. For additional information on the contents of the addition of this reference documentation to Docket ID No. EPA-HQ-OLEM-2024-0376 and details on the docket contents open for public comment submissions, see the SUPPLEMENTARY INFORMATION section of this document.

FOR FURTHER INFORMATION CONTACT: Vanessa Van Note, U.S. Environmental Protection Agency, Site Assessment and Remedy Decisions Branch, Assessment and Remediation Division, Office of Superfund Remediation and Technology Innovation (Mail Code 5203T), 1200 Pennsylvania Avenue NW, Washington, DC 20460, telephone number: (202) 564-4830, email address: vannote.vanessa@epa.gov.

SUPPLEMENTARY INFORMATION:

I. Background

A. Proposed Listing of Exide Technologies-Vernon

The Comprehensive Environmental Response, Compensation, and Liability Act (“CERCLA” or “the Act”), as amended, requires that the National Oil and Hazardous Substances Pollution Contingency Plan (“NCP”) include a list of national priorities among the known releases or threatened releases of hazardous substances, pollutants or contaminants throughout the United States. The National Priorities List (“NPL”) constitutes this list. In the Federal Register of September 5, 2024 (89 FR 72356), the EPA proposed to add four sites to the General Superfund section of the NPL, one of which is Exide Technologies-Vernon.

B. Public Comments on the Proposed Listing

The comment period for the proposed rule closed on December 4, 2024 (In response to commenters' request, EPA provided a 30-day extension from November 4, 2024, which was the comment period identified in the proposed rule). The EPA received thirty-five comments regarding the proposed listing of Exide Technologies-Vernon.

One commenter (EPA-HQ-OLEM-2024-0376-0042) (Ref. 1) questioned the EPA's discussion of the geologic conditions local to the site in the Hazard Ranking System (HRS) documentation record (Ref. 2). The commenter, Clarios, LLC, stated that the HRS documentation did not discuss “the approximately 35-foot aquitard between the Exposition and the Gage-Gardena aquifers and the approximately 35-foot aquitard located between the Gage-Gardena and Hollydale aquifers,” and that these aquitards had the potential to greatly inhibit the vertical migration of one of the contaminants of concern, trichloroethylene (TCE) (Ref. 1). This commenter also stated that the HRS documentation did not provide an explanation for “how TCE would migrate from the Perched Zone to the Exposition Aquifer given the absence of water permeating through the Bellflower Aquiclude” (Ref. 1).

After consideration of public comments, the EPA is providing the documentation used to develop the content presented in the reference (Ref. 3). This information includes a technical memorandum and related data source documents providing an explanation of the analytical approach, the findings from the application of diverse analytical techniques, and a summary of conclusions based on multiple lines of evidence. This data will be included as one reference to the HRS documentation record, and the EPA is providing this additional document for public review and comment. The additional document, a technical memorandum, will be posted to the site Docket ID No. EPA-HQ-OLEM-2024-0376-004 on https://regulations.gov. Materials referenced in this additional document are available on request from regional docket. The contact information for the region docket is as follows:

• Leslie Ramirez, Region 9 (AZ, CA, HI, NV, AS, GU, MP), U.S. EPA, 75 Hawthorne Street, Mail code SFD-8-4, San Francisco, CA 94105; telephone number: (415) 972-3978.

II. Public Comments

Anyone wishing to comment on the information in the reference or the impact this data may have on the HRS score for the proposed Exide Technologies-Vernon site should do so within the next 30 calendar days (see DATES section at the beginning of this document). Additional comments will not be accepted on other HRS scoring issues which could have appropriately been raised during the original comment period (closed December 4, 2024) and that are not based on information provided in this additional reference. In other words, comments should be focused on the subject of this document.

Comments should be submitted pursuant to instructions in the ADDRESSEES section of this document; they may be submitted electronically, by mail or by express mail. The Docket ID No. for this site is EPA-HQ-OLEM-2024-0376 and should be identified in any correspondence/electronic submission.

III. References

The following is a listing of the documents that are specifically referenced in this document. The docket includes these documents and other information considered by EPA, including documents that are referenced within the documents that are included in the docket, even if the referenced document is not physically located in the docket. For assistance in locating these other documents, please consult the person listed under FOR FURTHER INFORMATION CONTACT.

1. Public Comment submitted by Clarios, LLC. EPA-HQ-OLEM-2024-0376-0042.

2. EPA. HRS documentation Record for Exide Technologies-Vernon. EPA-HQ-OLEM-2024-0376-0003.

3. EPA. Exide Technologies-Vernon NPL Listing RTCs Technical Memo.

Dated: May 5, 2025.
Brigid Lowery,
Deputy Director, Office of Superfund Remediation and Technology Innovation.

[FR Doc. 2025-10022 Filed 6-2-25; 8:45 am]

BILLING CODE 6560-50-P